DEPARTMENT OF THE INTERIOR

Fish and Wildlife Service

[FWS-R8-ES-2017-N148]; [FXES11140800000-178-FF08E00000]

Draft Habitat Conservation Plan for the Desert Tortoise and Mohave Ground Squirrel and Draft Environmental Assessment; Hinkley Groundwater Remediation Project; San Bernardino County, California

AGENCY: Fish and Wildlife Service, Interior.

ACTION: Notice of availability; request for public comment.

SUMMARY: We, the U.S. Fish and Wildlife Service, announce the receipt and availability of a draft Habitat Conservation Plan (HCP) and draft environmental assessment (EA), which evaluates the impacts of, and alternatives to, the proposed Hinkley Groundwater Remediation Project. The Hinkley HCP was submitted by Pacific Gas & Electric Company (PG&E) in support of an application under the Endangered Species Act of 1973, as amended, for a permit authorizing the incidental take of covered species resulting from covered activities. PG&E's application is for a 50-year incidental take permit to cover groundwater remediation activities within a plan area of approximately 29,927 acres in and around Hinkley, California. We request review and comment on the Hinkley HCP and the draft EA from local, State, and Federal agencies; Tribes; and the public.

DATES: To ensure consideration, please send your written comments by January 19, 2018.

ADDRESSES: Obtaining Documents:

• Internet: You may obtain copies of the Hinkley HCP and draft EA on the Hinkley Groundwater Remediation website at https://www.hinkleygroundwater.com.

• U.S. Mail: A limited number of CD-ROM and printed copies of the Hinkley HCP and draft EA and are available, by request, from the Palm Springs Fish and Wildlife Office at 777 East Tahquitz Canyon Way, Suite 208, Palm Springs, CA 92262; by mail at the Hinkley Independent Review Panel (IRP) Manager Office, 36236 Serra Rd., Hinkley, CA 92347; by phone at (714) 338-1800; or by email at info@projectnagivator.com. Please specify that your request is about the Hinkley HCP.

• In-Person: Copies of the Hinkley HCP and draft EA are also available for public inspection and review at the following locations, by appointment and written request only, 8 a.m. to 4:30 p.m.:

○ Hinkley IRP Manager Office, 36236 Serra Rd., Hinkley, CA 92347.

○ PG&E Public Outreach Office, 22999 Community Blvd., Hinkley, CA 92347.

○ Barstow Library, 304 E Buena Vista St, Barstow, CA 92311.

Submitting Comments: You may submit comments by one of the following methods:

○ Email: fw8cfwocomments@fws.gov; please include “Hinkley HCP” in the subject line.

○ U.S. Mail: Kennon A. Corey, Palm Springs Fish and Wildlife Office, Attn: Hinkley HCP, 777 East Tahquitz Canyon Way, Suite 208, Palm Springs, CA 92262, Attn: Hinkley HCP.

○ Telephone: Kennon A. Corey, Palm Springs Fish and Wildlife Office, (760) 322-2070.

FOR FURTHER INFORMATION CONTACT: Scott Hoffmann, by mail at the U.S. Fish and Wildlife Service, 777 East Tahquitz Canyon Way, Suite 208, Palm Springs, CA 92262; or by phone at (760) 322-2070.

SUPPLEMENTARY INFORMATION: We, the U.S. Fish and Wildlife Service (Service), announce the receipt and availability of a draft Habitat Conservation Plan (HCP) and draft environmental assessment (EA), which evaluates the impacts of, and alternatives to, the proposed Hinkley Groundwater Remediation Project. The Hinkley HCP was submitted by the Pacific Gas & Electric Company (PG&E) in support of an application under section 10 of the Endangered Species Act of 1973, as amended (ESA), for a permit authorizing the incidental take of covered species resulting from covered activities. The proposed Hinkley HCP area encompasses approximately 29,927 acres in the southeastern portion of San Bernardino County, within the State of California.

Introduction

Under section 10(c) of the ESA and under the National Environmental Policy Act of 1969 (NEPA), this notice advises the public of the receipt and availability for public review of the draft Hinkley HCP and draft EA, which evaluates the impacts of, and alternatives to, the Hinkley HCP, submitted with an application for a permit to authorize the incidental take of federally listed covered species resulting from covered activities within the plan area. The Service is the Lead Agency pursuant to NEPA. The proposed Federal action is issuance to PG&E of an incidental take permit (ITP) under section 10(a)(1)(B) of the ESA.

Background

Section 9 of the ESA prohibits “take” of fish and wildlife species listed as endangered under section 4 (16 U.S.C. 1538, 1533, respectively). Section 10(a)(1)(B) of the ESA provides for the issuance of a permit for the taking of listed fish and wildlife species that is incidental to, and not the purpose of, the carrying out of an otherwise lawful activity (“incidental take”). The ESA implementing regulations extend, under certain circumstances, the prohibition of take to threatened species (50 CFR 17.31). Regulations governing permits for endangered and threatened species are at 50 CFR 17.22 and 17.32. For more about the HCP program, go to http://www.fws.gov/endangered/esa-library/pdf/hcp.pdf.

Under section 10(a) of the ESA, the Service may issue permits to authorize incidental take of listed fish and wildlife species. Section 10(a)(2)(B) of the ESA contains criteria for issuing ITPs to non-Federal entities for the take of endangered and threatened species, provided the following criteria are met:

• The taking will be incidental;

• The applicant will, to the maximum extent practicable, minimize and mitigate the impact of such taking;

• The applicant will develop an HCP and ensure that adequate funding for the plan will be provided;

• The taking will not appreciably reduce the likelihood of the survival and recovery of the species in the wild; and

• The applicant will carry out any other measures that the Secretary may require as being necessary or appropriate for the purposes of the HCP.

The purpose of issuing an ITP to PG&E would be to permit incidental take of the covered species resulting from groundwater remediation activities conducted by PG&E and conditioned on PG&E's minimization and mitigation of the impacts of such take in accordance with an approved Hinkley HCP. Implementation of the Hinkley HCP is intended to maximize the benefits of conservation measures for covered species and eliminate expensive and time-consuming efforts associated with processing individual ITPs for each groundwater remediation project within PG&E's plan area.

The proposed Hinkley HCP includes measures intended to minimize and mitigate the impacts of the taking to the maximum extent practicable from groundwater remediation activities within the plan area.

Proposed Action

The proposed action is the issuance of an ITP by the Service to PG&E for the incidental take of covered species from groundwater remediation activities, including the avoidance, minimization, and mitigation of impacts to covered species within the 29,927-acre plan area for 50 years. The proposed Hinkley HCP is a conservation plan for two species, the desert tortoise (federally listed as threatened) and the Mohave ground squirrel (not currently listed). The groundwater remediation activities that will be covered by the ITP include groundwater monitoring, freshwater injection into the water table, operation of agricultural units for bioremediation, below- and above-ground treatments, access road construction, structure demolition, and emergency repair of infrastructure. Potential impacts to covered species include disruption of normal behavior by covered activities, movement of animals away from work areas, and injury or death due to construction activities. The Hinkley HCP would provide a comprehensive approach to the protection and management of these species and their habitat within the plan area.

The plan area is approximately 29,927 acres, and includes all areas within which PG&E is proposing to conduct groundwater remediation activities. The plan area is common to both alternatives analyzed in the EA, and represents the surface area above the projected maximum spatial extent of contaminated groundwater. The plan area also defines the maximum spatial extent of surface areas within which PG&E may implement groundwater remediation activities, and the maximum spatial extent of potential groundwater effects such as drawdown or accumulation of remediation byproducts.

Alternatives

We considered two alternatives in the EA: (1) The Proposed Action as described in the HCP, and (2) the No Action alternative. Two other alternatives, discussed in the HCP as alternatives considered but not utilized, were not carried forward for analysis in the EA. The No Action alternative is based on PG&E's continued implementation of groundwater remediation activities, consistent with current laws and regulations, in areas where take of listed species would be avoided; under this alternative we would not issue an ITP.

Request for Comments

Consistent with section 10(c) of the ESA, we invite your submission of written comments, data, or arguments with respect to PG&E's permit application, the Hinkley HCP, and proposed permitting decision.

Public Availability of Comments

Written comments we receive become part of the public record associated with this action. Before including your address, phone number, email address, or other personal identifying information in your comment, you should be aware that your entire comment—including your personal identifying information—may be made publicly available at any time. While you may request in your comment that we withhold your personal identifying information from public review, we cannot guarantee that we will be able to do so. All submissions from organizations or businesses, and from individuals identifying themselves as representatives or officials of organizations or businesses, will be made available for public disclosure in their entirety.

Next Steps

Issuance of an incidental take permit is a Federal proposed action subject to compliance with NEPA. We will evaluate the application, associated documents, and any public comments we receive to determine whether the application meets the requirements of section 10(a) of the ESA. If we determine that those requirements are met, we will issue a permit to the applicant for the incidental take of the covered species. We will make our final permit decision no sooner than 30 days after the public comment period closes.

Authority

We provide this notice under section 10(c) of the ESA (16 U.S.C. 1531 et seq.) and its implementing regulations (50 CFR 17.22 and 17.32) and NEPA (42 U.S.C. 4321 et seq.) and its implementing regulations (40 CFR 1506.6).

G. Mendel Stewart,
Field Supervisor, Carlsbad Fish and Wildlife Office, Carlsbad, California.

[FR Doc. 2017-27440 Filed 12-19-17; 8:45 am]

BILLING CODE 4333-15-P